DEPARTMENT OF COMMERCE

National Oceanic and Atmospheric Administration

Proposed Information Collection; Comment Request; Washington and Oregon Charter Vessel Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 11, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Jerry Leonard, National Marine Fisheries Service, 2725 Montlake Blvd. E., Seattle, WA 98112.

SUPPLEMENTARY INFORMATION:

I. Abstract

This is a request for a new information collection.

The Northwest Fisheries Science Center will conduct a cost and earnings survey of active marine charter fishing vessel companies in Washington and Oregon. The data collected will be used by the National Marine Fisheries Service (NMFS) to address statutory and regulatory mandates to determine the quantity and distribution of net benefits derived from living marine resources as well as to predict the economic impacts from proposed management options on charter fishing businesses, shore side industries, and fishing communities. In particular, these economic data collection programs contribute to legally mandated analyses required under the Magnuson-Stevens Fishery Conservation and Management Act (MFCMS), the National Environmental Policy Act (NEPA), the Regulatory Flexibility Act (RFA), and Executive Order 12866 (E.O. 12866).

II. Method of Collection

An initial screening interview will be completed via telephone, and active marine charter vessels will receive a subsequent mixed-mode (telephone, mail, and in-person) survey.

III. Data

OMB Control Number: 0648-xxxx.

Form Number(s): None.

Type of Review: Regular submission (request for a new information collection).

Affected Public: Business or other for-profit organizations.

Estimated Number of Respondents: 320.

Estimated Time per Response: Initial telephone screen: 2 minutes; follow-up detailed survey: 22 minutes.

Estimated Total Annual Burden Hours: 64.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 5, 2018.
Sarah Brabson,
NOAA PRA Clearance Officer.

[FR Doc. 2018-07292 Filed 4-9-18; 8:45 am]

BILLING CODE 3510-22-P